DEPARTMENT OF HOMELAND SECURITY

U.S. Customs and Border Protection

Notice of Change in Policy on the Publication of Customs Broker License and Permit Cancellations

AGENCY: U.S. Customs and Border Protection, Department of Homeland Security.

ACTION: General Notice.

SUMMARY: This document announces U.S. Customs and Border Protection's (CBP's) plan to discontinue publication in the Federal Register of the cancellation of individual and corporate customs broker licenses and permits under section 111.51 of title 19 of the Code of Federal Regulations. A current list of active customs brokers is maintained on CBP's Web site: www.cbp.gov.

FOR FURTHER INFORMATION CONTACT: Maranda Sorrells, U.S. Customs and Border Protection, Office of International Trade, Commercial Targeting and Enforcement, at 202-863-6218 or brokermanagement@cbp.dhs.gov.

SUPPLEMENTARY INFORMATION: Customs broker license and permit cancellations fall under § 111.51 of title 19 of the Code of Federal Regulations (19 CFR 111.51) and are voluntarily requested by the customs broker in the event that the broker no longer wants to or cannot conduct customs business. Requests for cancellation of a license or permit are directed to the Port Director of the port through which the license was issued. The Port Director forwards the broker's written request for cancellation of a license or permit to the Broker Management Branch in the Office of International Trade, requesting that it be canceled. Most often, CBP receives the license cancellation request because the customs broker has retired or the business has dissolved. CBP receives permit cancellation requests when a customs broker has ceased operations in a particular district or has determined that a certain permit is no longer necessary for their business operations. Historically, CBP has published notice in the Federal Register when a customs broker's license or permit has been cancelled. Publication in the Federal Register is not required by statute or regulation, but rather has been provided by CBP as courtesy notice to the public. See section 641 of the Tariff Act of 1930, as amended (19 U.S.C. 1641), and section 111.51 of title 19 of the Code of Federal Regulations (19 CFR 111.51).

Given the ease of access to current information available online and with consideration for the most efficient use of CBP customs broker management resources, CBP will no longer publish notice of customs broker license or permit cancellations pursuant to 19 CFR 111.51 in the Federal Register. Alternatively, CBP will maintain an active customs brokers list at www.cbp.gov as a resource for the public to verify active brokers. When a customs broker submits a license or permit cancellation request to the Port Director of the port through which the license was issued, the request is forwarded to the Broker Management Branch in the Office of International Trade at CBP. The Office of International Trade will then acknowledge the receipt of the cancellation request and provide the customs broker with an appropriate CBP point of contact. The confirmation letter will also be copied to the port through which the customs broker's license was issued.

While CBP will no longer publish specific notice in the Federal Register reporting customs broker licenses and permits that have been cancelled under 19 CFR 111.51, CBP will continue to publish Federal Register notices for customs broker licenses that have been suspended or revoked pursuant to 19 CFR 111.30, 111.45 and 111.74. CBP maintains an active customs brokers list at www.cbp.gov to provide notice to the public of all active customs broker licenses.

Dated: December 4, 2014.
Brenda Smith,
Assistant Commissioner, Office of International Trade.

[FR Doc. 2014-28858 Filed 12-8-14; 8:45 am]

BILLING CODE 9111-14-P